GENERAL SERVICES ADMINISTRATION

[Notice-ID-2023-05; Docket No. 2023-0002; Sequence No. 11]

Privacy Act of 1974; System of Records

AGENCY: Office of the Chief Privacy Officer, General Services Administration, (GSA).

ACTION: Rescindment of a system of records notice.

SUMMARY: Pursuant to the Privacy Act of 1974, notice is hereby given that the General Services Administration (GSA) proposes to rescind the GSA/HRO-3 Occupational Health and Injury Files SORN. GSA is rescinding the system of records notice, GSA/HRO-3 Occupational Health and Injury Files. The rescinded system of records described in this notice no longer maintains any Personally Identifiable Information (PII). Additionally, GSA uses the Employees' Compensation Operations & Management Portal (ECOMP) system to report an incident. GSA uses the ECOMP system to track injuries and illnesses. Link to ECOMP system at DOL: https://www.ecomp.dol.gov.

DATES: Submit comments on or before April 13, 2023.

ADDRESSES: Submit comments by any of the following methods:

• Regulations.gov: Search http://www.regulations.gov for ID-2023-05, Rescindment of a System of Records Notice. Select the link “Comment Now” that corresponds with “ID-2023-05, Rescindment of a System of Records Notice.” Follow the instructions provided on the screen. Please include your name, company name (if any), and “ID-2023-05, Rescindment of a System of Records Notice” on your attached document.

• By email to the GSA Privacy Act Officer: gsa.privacyact@gsa.gov.

• By mail to: Privacy Office (IDE), GSA, 1800 F Street NW, Washington, DC 20405.

FOR FURTHER INFORMATION CONTACT: Call or email Richard Speidel, the GSA Chief Privacy Officer: telephone 202-969-5830; email gsa.privacyact@gsa.gov.

SUPPLEMENTARY INFORMATION: The SORN should be removed from GSA's inventory once OMB reviews and approves. The records are only stored in a Dept of Labor system. GSA's replacement for the SORN is now obsolete as the records described in it are instead stored in a Dept of Labor system [DOL/OASAM-4—Safety and Health Information Management System (SHIMS)]—(https://www.dol.gov/agencies/sol/privacy) and https://www.dol.gov/agencies/sol/privacy/govt-1.

SYSTEM NAME AND NUMBER:

GSA/HRO-3—Occupational Health and Injury Files SORN.

HISTORY:

73 FR 22389.

Richard Speidel,
Chief Privacy Officer, Office of the Deputy Chief Information Officer, General Services Administration.

[FR Doc. 2023-05192 Filed 3-13-23; 8:45 am]

BILLING CODE 6820-34-P